ENVIRONMENTAL PROTECTION AGENCY

[EPA-R07-RCRA-2018-0083; FRL-9976-47-Region 7]

Notice of Proposed Settlement Agreement and Order on Consent for Removal Action by Bona Fide Prospective Purchaser

AGENCY: Environmental Protection Agency (EPA).

ACTION: Notice; request for public comment.

SUMMARY: The Environmental Protection Agency (EPA) is hereby giving notice of a proposed bona fide prospective purchaser settlement agreement, embodied in an Order on Consent, with Sensient Colors LLC. This agreement pertains to the former Homer A. Doerr & Sons Plating Company property located in St. Louis, Missouri.

DATES: Comments must be received on or before May 10, 2018.

ADDRESSES: The proposed settlement agreement is available for public inspection at EPA Region 7's office at 11201 Renner Boulevard, Lenexa, Kansas 66219. A copy of the proposed agreement may also be obtained from Mary Goetz, EPA Region 7, 11201 Renner Boulevard, Lenexa, Kansas 66219, telephone number (913) 551-7754. Comments should reference the Homer A. Doerr & Sons Plating Company Superfund Site, 2408 North Leffingwell Avenue, St. Louis, Missouri 63106. Comments should be addressed to Ms. Goetz at the above address or electronically to goetz.mary@epa.gov.

FOR FURTHER INFORMATION CONTACT: Alex Chen, Senior Counsel, Office of Regional Counsel, Environmental Protection Agency Region 7, 11201 Renner Boulevard, Lenexa, Kansas 66219, at (913) 551-7962, or by email at chen.alex@epa.gov.

SUPPLEMENTARY INFORMATION: Notice is hereby given by the U.S. Environmental Protection Agency (EPA), Region 7, of a proposed bona fide prospective purchaser settlement agreement, embodied in an Order on Consent, with Sensient Colors LLC. This agreement pertains to the former Homer A. Doerr & Sons Plating Company property located at 2408 North Leffingwell Avenue, St. Louis, Missouri. Sensient Colors LLC agrees to perform a removal action at this property, purchase the property and return the site to green space. This project will result in an abandoned contaminated building and site being restored to beneficial use.

The settlement includes a covenant by EPA not to sue or take administrative action against Sensient Colors, pursuant to Sections 106 and 107(a) of CERCLA and Section 3008 of the Solid Waste Disposal Act, commonly referred to as the Resource Conservation and Recovery Act, as amended by the Hazardous and Solid Waste Amendments, for Existing Contamination, as that term is defined in the settlement agreement. For thirty (30) days following the date of publication of this notice, EPA will receive written comments relating to the settlement. EPA will consider all comments received and may modify or withdraw its consent to the settlement agreement if comments received disclose facts or considerations that indicate that the proposed settlement is inappropriate, improper, or inadequate. EPA's response to any comments received will be available for public inspection at EPA Region 7, 11201 Renner Boulevard, Lenexa, Kansas 66219.

Dated: March 29, 2018.
Robert W. Jackson,
Acting Director, Superfund Division, Region 7.
Dated: March 29, 2018.
John J. Smith,
Acting Director, Air & Waste Management Division, Region 7.

[FR Doc. 2018-07360 Filed 4-9-18; 8:45 am]

BILLING CODE 6560-50-P